ENVIRONMENTAL PROTECTION AGENCY

[ER-FRL-6607-4]

Environmental Impact Statements and Regulations; Availability of EPA Comments

Availability of EPA comments prepared May 01, 2000 Through May 05, 2000 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-FAA-B51019-RI Rating EC2, T. F. Green Airport Project, To Implement the Part 150 Noise Abatement Procedures in a Safe and Efficient Manner, Warwick County, RI.

Summary: EPA expressed concerns regarding the analysis of community noise impacts and mitigation measures described in the DEIS.

ERP No. D-FHW-E40308-TN Rating EC2, TN-374 (North Parkway) Project, Construction from TN13 to TN 76 in Clarksville, Funding, US Coast Guard and COE Section 404 Permits, Montgomery County, TN.

Summary: EPA expressed environmental concerns regarding purpose and need and potential wetland impacts. EPA requested clarification of these issues.

ERP No. D-FHW-F40388-WI Rating EC2, US-14/61 Westby—Virogua Bypass Corridor Study, Transportation Improvements, Funding and COE Section 404 Permit, Cities of Virogua and Westby, Vernon County, WI.

Summary: EPA expressed concern that the document did not provide information on how this project relates to plans for the Highway 14 and 61 corridors.

ERP No. D-FHW-H40167-MO Rating EC2, US 65 Improvements, from County Road 65-122 South to Route EE Intersection south of Buffalo, COE Section 404 Permit, Dallas County, MO.

Summary: EPA expressed concerns regarding possible detrimental impacts to drinking water supplies; lack of cumulative and indirect impacts analysis; and a lack of maps detailing information addressed in the various sections of the DEIS.

ERP No. D-FRC-K03023-00 Rating EC2, Southern Trails Pipeline Project (CP99-163-000), Conversion of an Existing Crude Oil Pipeline (known as the ARCO Four Corners Pipeline Line 90 System), Construction and Operation, CA, AZ, UT and NM.

Summary: EPA identified some concerns and additional analysis needs, particularly in the area of socioeconomics and the treatment of environmental justice.

ERP No. D-FTA-F54012-OH Rating EC2, Bera/I-X Center Red Line Extension Project, Southwest Corridor Major Investment, Transit Improvements, Funding, Cuyahoga County, OH.

Summary: EPA expressed concerns because of the lack of discussion pertaining to avoidance, minimization and mitigation of wetlands and the insufficiency of the content and format of noise and vibration analysis.

ERP No. D-USN-K11033-CA Rating EC2, El Toro Marine Corps Air Station Disposal and Reuse, Implementation, Orange County, CA.

Summary: EPA expressed concern that re-use activities could lead to exceedences of applicable air quality standards, could result in increased water pollution, or could harm wildlife. EPA recommended that the Navy identify mitigation to protect wetlands, develop a restoration alternative, and consider an environmental management system (EMS) to mitigate risks.

ERP No. DA-IBR-J35005-00 Rating EC2, Animas-La Plata Project (ALP Project), Municipal and Industrial Water Supply, Reservoir Construction in Ridges Basin, Implementation and Water Acquisition Funding, Additional Information concerning Project Alternatives Developed in 1996 through 1997, CO NM.

Summary: EPA requested that additional information be provided on how the various environmental impacts of the alternatives are being compared and details of the proposed wetland and habitat mitigation plan.

ERP No. DS-DOD-A11075-00 Rating LO, National Missile Defense Deployment (NMD) System, Upgraded Early Warning Radar Supplement (UEWR), To Addresses Interior Replacement of Electronic Hardware and Computer Software, Affected Areas Clear Air Force Station (AFS), Denali Borough, AK; Beale Air Force Base (AFB), Yuba County, CA; and Cape Cod AFS, Barnstable County, MA.

Summary: EPA had no objection to this project.

Final EISs

ERP No. F-BOP-E80002-SC South Carolina—Federal Correctional Institution, Construct and Operate, Possible Sites: Andrew, Bennettsville, Oliver and Salters, SC.

Summary: EPA expressed environmental concerns regarding potential wetlands impacts.

ERP No. F-FAA-B51021-MA Provincetown Municipal Airport Safety and Operational Enhancement Project, Improvements (1) Firefighter Equipment Garage; (2) General Aviation Parking Apron Expansion; (3) Runaway Safety Areas, and (4) a Runaway Extension, COE Section 404 Permit, Cape Cod National Seashore, Barnstable County, MA.

Summary: EPA has no objections to the recommended actions in the FEIS but asked to be actively involved in any NEPA reevaluation associated with any future runway extension project at the airport.

ERP No. F-FHW-H50001-MO MO-19 Missouri River Replacement Bridge Project, Construction and Operation, US Coast Guard and COE Section 404 Permits, Gasconade and Montgomery Counties, MO.

Summary: EPA urged FHWA/MoDOT to condition the Record of Decision for the selection of the 5-W1 alternative pending completion of Fish and Wildlife Service surveys for three endangered species.

ERP No. F-FHW-K40225-CA Marin US-101 High Occupancy Vehicle (HOV) Gap Closure Project, Construction from US 101 I-580 on US-101 from Lucky Drive to North San Pedro Road and I-580 from Irene Street to US-101, Funding, COE Section 404 and Bridge Permits, Marin County, CA.

Summary: No formal comment letter was sent to the preparing agency.

ERP No. F-FTA-K40238-CA Downtown Sacramento—Folsom Corridor, Improvement of Transit Services, US 50/Folsom Boulevard, Funding and COE Section 404 Permit, Transportation Systems Management (TSM) and Light Rail Transit (LRT), City and County of Sacramento, CA.

Summary: No formal comment letter was sent to the preparing agency.

ERP No. F-FTA-K54023-CA Vasona Corridor Light Rail Transit Project, Extension of existing Light Rail Transit (LRT), in portion of the Cities of San Jose, Campbell and Los Gatos, Santa Clara County, CA.

Summary: No formal comment letter was sent to the preparing agency.

ERP No. F-IBR-K39054-CA Groundwater Replenishment System, Implementation to Repurifying Water from Orange County Water District (OCWD) Orange County Sanitation District (OCSD), Funding and COE Section 404 Permit, Orange County, CA.

Summary: EPA continues to express concern regarding (1) potential emergency response procedures and contingency plans, (2) how the injection process would improve the effectiveness of the saltwater intrusion barrier, and (3) a preliminary monitoring plan to be implemented by the project operators.

ERP No. F-SFW-L64046-WA Little Pend Oreille National Wildlife Refuge, Implementation, Comprehensive Conservation Plan, Stevens and Pend Oreille Counties, WA.

Summary: No formal comment letter was sent to the preparing agency.

ERP No. F-TVA-E09805-TN Addition of Electric Generation Peaking and Baseload Capacity at Greenfield Sites, Construction and Operation of Combustion Turbines (CTs), Haywood County, TN.

Summary: EPA expressed concern with the proposal to develop new power plants proposed for greenfields as opposed to brownfields or the expansion/repowering of existing plants. EPA also expressed concern that the project would likely induce growth with associated impacts. EPA recommended that TVA continue to coordinate with local community leaders regarding environmental justice issues.

ERP No. F-USN-K11083-CA Hunters Point (Former) Naval Shipyard Disposal and Reuse, Implementation, City of San Francisco, San Francisco County, CA.

Summary: EPA continues to object to the FEIS based upon inadequate mitigation on potential impacts to the environmental justice community at Hunters Point.

ERP No. FS-UAF-A11074-00 Evolved Expendable Launch Vehicle (EELV) Program, Development, Operation and Deployment, Proposed Launch Locations are Cape Canaveral Air Station (AS), Florida and Vandenberg Air Force Base (AFB), California, Federal Permits and Licenses, FL and CA.

Summary: EPA had no objection to the Final document.

Dated: May 16, 2000.
Joseph C. Montgomery,
Director, NEPA Compliance Division, Office of Federal Activities.

[FR Doc. 00-12681 Filed 5-18-00; 8:45 am]

BILLING CODE 6560-50-P